DEPARTMENT OF ENERGY

Federal Energy Regulatory Commission

[Docket No. OR03-7-000]

Tesoro Refining and Marketing Company v. Frontier Pipeline Company; Notice of Complaint

September 9, 2003.

Take notice that on September 5, 2003, Tesoro Refining and Marketing Company (Tesoro) tendered for filing a Complaint against Frontier Pipeline Company (Frontier).

Tesoro states that it is an interstate shipper of crude oil on a pipeline that Frontier owns and operates between Casper, Wyoming and Ranch Station, Utah. Tesoro states that Frontier has been charging unjust and unreasonable rates for the shipment of crude oil on that pipeline as evidenced by the FERC Form 6 that Frontier filed with the Commission for 2001 and 2002. Tesoro further maintains that the additional analysis of Frontier's revenues and costs as contained in the Complaint further evidences Frontier's overcharges on its crude oil pipeline.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: September 25, 2003.
Linda Mitry,
Acting Secretary.

[FR Doc. 03-23390 Filed 9-12-03; 8:45 am]

BILLING CODE 6717-01-P